ENVIRONMENTAL PROTECTION AGENCY

[EPA-HQ-OPP-2008-0917; FRL-8984-9]

Agency Information Collection Activities; Submission to OMB for Review and Approval; Comment Request; Standards for Pesticide Containers and Containment; EPA ICR No. 1632.03, OMB Control No. 2070-0133

AGENCY: Environmental Protection Agency (EPA).

ACTION: Notice.

SUMMARY: In compliance with the Paperwork Reduction Act (PRA) (44 U.S.C. 3501 et seq.), this document announces that an Information Collection Request (ICR) has been forwarded to the Office of Management and Budget (OMB) for review and approval. This is a request to renew an existing approved collection. The ICR, which is abstracted below, describes the nature of the information collection and its estimated burden and cost.

DATES: Additional comments may be submitted on or before December 28, 2009.

ADDRESSES: Submit your comments, referencing Docket ID No. EPA-HQ-OPP-2008-0917, to (1) EPA online using http://www.regulations.gov (our preferred method), by mail—Office of Pesticide Programs (OPP), Regulatory Public Docket (7502P), Environmental Protection Agency, 1200 Pennsylvania Ave., NW., Washington, DC 20460, and (2) OMB by mail to: Office of Information and Regulatory Affairs, Office of Management and Budget (OMB), Attention: Desk Officer for EPA, 725 17th Street, NW., Washington, DC 20503.

FOR FURTHER INFORMATION CONTACT: Cameo Smoot, Field and External Affairs Division, Office of Pesticide Programs, 7506P, Environmental Protection Agency, 1200 Pennsylvania Ave., NW., Washington, DC 20460; telephone number: 703-305-5454; fax number: 703-305-5884; e-mail address: smoot.cameo@epa.gov.

SUPPLEMENTARY INFORMATION: EPA has submitted the following ICR to OMB for review and approval according to the procedures prescribed in 5 CFR 1320.12. On February 25, 2009 (74 FR 8537), EPA sought comments on this ICR pursuant to 5 CFR 1320.8(d). EPA received no comments. Any additional comments on this ICR should be submitted to EPA and OMB within 30 days of this notice.

EPA has established a public docket for this ICR under Docket ID No. EPA-HQ-OPP-2008-0917, which is available for online viewing at http://www.regulations.gov, or in person viewing at the OPP Regulatory Public Docket in Rm. S-4400, One Potomac Yard (South Building), 2777 S. Crystal Drive, Arlington, VA. The hours of operation of this Docket Facility are from 8:30 a.m. to 4 p.m., Monday through Friday, excluding legal holidays. The Docket telephone number is (703) 305-5805. Use EPA's electronic docket and comment system at http://www.regulations.gov, to submit or view public comments, access the index listing of the contents of the docket, and to access those documents in the docket that are available electronically. Once in the system, select “docket search,” then key in the docket ID number identified above. Please note that EPA's policy is that public comments, whether submitted electronically or in paper, will be made available for public viewing at http://www.regulations.gov as EPA receives them and without change, unless the comment contains copyrighted material, confidential business information (CBI), or other information whose public disclosure is restricted by statute. For further information about the electronic docket, go to http://www.regulations.gov.

Title: Standards for Pesticide Containers and Containment.

ICR numbers: EPA ICR No. 1632.03, OMB Control No. 2070-0133.

ICR Status: This ICR is scheduled to expire on November 30, 2009. Under OMB regulations, the Agency may continue to conduct or sponsor the collection of information while this submission is pending at OMB. An Agency may not conduct or sponsor, and a person is not required to respond to, a collection of information, unless it displays a currently valid OMB control number. The OMB control numbers for EPA's regulations in title 40 of the CFR, after appearing in the Federal Register when approved, are listed in 40 CFR part 9, are displayed either by publication in the Federal Register or by other appropriate means, such as on the related collection instrument or form, if applicable. The display of OMB control numbers in certain EPA regulations is consolidated in 40 CFR part 9.

Abstract: This information collection request covers the information collection activities associated with the container design and residue removal requirements and containment structure requirements. With respect to the container design and residue removal requirements, the information collection activities are associated with the requirement that businesses subject to the container regulations (pesticide registrants) and repackaging regulations (pesticide registrants and refillers) maintain records of test data, cleaning procedures, certain data when a container is refilled, and other supporting information. These records are subject to both call-in by EPA and on-site inspection by EPA and its representatives. EPA has not established a regular schedule for the collection of these records, and there is no reporting. With respect to the containment structure requirements, the information collection activities are associated with the requirement that businesses subject to the containment structure regulations maintain records of the: (1) Monthly inspection and maintenance of each containment structure and all stationary bulk containers; (2) duration over which non-stationary bulk containers holding pesticide and not protected by a secondary containment unit remain at the same location; and (3) construction date of the containment structure. The businesses subject to the containment structure regulations include agrichemical retailers and refilling establishments, custom blenders and commercial applicators of agricultural pesticides. The records have to be maintained by the owners and operators of such businesses. There is no regular schedule for the collection of either of these records, nor does EPA anticipate a call-in of records at some future date. Instead, the records would be available to inspectors to ensure that businesses are in compliance with containment requirements. These inspections are generally conducted by the states, who enforce FIFRA regulations through cooperative agreements with EPA.

Burden Statement: The annual public reporting and recordkeeping burden for this collection of information is estimated to average 7.4 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Entities potentially affected by this ICR include pesticide registrants and businesses who formulate pesticide products or pesticide formulation intermediates (NAICS code 325320), farm supply wholesalers (NAICS code 422910), swimming pool applicators (classified under NAICS codes 561790, 453998, and 235990), and agricultural (aerial and ground) commercial applicators (classified under NAICS code 115112).

Estimated Number of Respondents: 23,586. This includes 1,804 registrant facilities, 16,795 agricultural pesticide refillers, 322 swimming pool supply companies, and 4,665 facilities requiring secondary containment.

Frequency of Response: On occasion. There is no regular reporting involved. This ICR only involves recordkeeping requirements.

Estimated Total Annual Hour Burden: 174,550.5 hours. This includes 139,563 hours for container design and residue removal requirements and 34,987.5 hours for containment structure requirements.

Estimated Total Annual Cost: $6,124,953. This includes $4,902,723 for container design and residue removal requirements and $1,222,230 for containment structure requirements.

Changes in the Estimates: The renewal of this ICR will result in an overall increase of 122,493.5 hours in the total estimated respondent burden identified in the currently approved ICR. When the information collection associated with this ICR was approved in 2006, the burden hours were adjusted to reflect only the burden associated with initial rule familiarization and state requests to use their containment regulations in lieu of Federal regulations—a total of 52,057 hours. These were the only burdens that were imposed by the pesticide container and containment regulations during the course of that approval. EPA was instructed to revise the estimates, upon resubmission, to reflect the burden imposed in 2009 and beyond because of compliance with the requirements.

Dated: November 18, 2009.
John Moses,
Director, Collection Strategies Division.

[FR Doc. E9-28259 Filed 11-24-09; 8:45 am]

BILLING CODE 6560-50-P